DEPARTMENT OF COMMERCE

International Trade Administration

[A-570-836]

Notice of Extension of Time Limit of Final Results of New Shipper Review: Glycine from the People's Republic of China

AGENCY: Import Administration, International Trade Administration, U.S. Department of Commerce.

SUMMARY: The Department of Commerce (the Department) is extending the time limit for the final results of the new shipper review of the antidumping duty order on glycine from the People's Republic of China (PRC) until no later than August 8, 2003. The period of review is March 1, 2001, through February 28, 2002. This extension is made pursuant to section 751(a)(2)(B)(iv) of the Tariff Act of 1930, as amended (the Act).

EFFECTIVE DATE: June 13, 2003

FOR FURTHER INFORMATION CONTACT: Scot Fullerton or Matthew Renkey, AD/CVD Enforcement, Import Administration, International Trade Administration, U.S. Department of Commerce, 14th Street and Constitution Avenue, N.W., Washington D.C. 20230; telephone: (202) 482-1386 or (202) 482-2312, respectively.

SUPPLEMENTARY INFORMATION:

Statutory Time Limits

Section 751(a)(2)(B)(iv) of the Act requires the Department to issue the final results of a new shipper review within 90 days after the date on which the preliminary results were issued. However, if the Department determines the issues are extraordinarily complicated, section 751(a)(2)(B)(iv) of the Act allows the Department to extend the deadline for the final results to up to 150 days after the date on which the preliminary results were issued.

Background

On May 1, 2002, the Department received a properly filed request for a new shipper review from Tianjin Tiancheng Pharmaceutical Co., Ltd. (TTPC) for the antidumping duty order on glycine from the PRC. On May 24, 2002, the Department published its initiation of this new shipper review for the period March 1, 2001, through February 28, 2002. See Glycine from the People's Republic of China: Initiation of Antidumping New Shipper Review, 67 FR 36572 (May 24, 2002). The Department completed the preliminary results of this new shipper review on March 11, 2003. See Notice of Preliminary Results of Antidumping Duty New Shipper Review: Glycine from the People's Republic of China, 68 FR 13669 (March 20, 2003). Without an extension, the final results of this new shipper review would be due on June 9, 2003.

Extension of Time Limits for Preliminary Results

Pursuant to section 751(a)(2)(B)(iv) of the Act, the Department may extend the deadline for completion of the final results of a new shipper review if it determines that the case is extraordinarily complicated. The Department has determined that this case is extraordinarily complicated because of the issues that must be addressed, and the final results of this new shipper review cannot be completed within the statutory time limit of 90 days.

Both respondent and petitioner submitted new factual information in their case and rebuttal briefs past established deadlines. After reviewing the briefs and deciding what constituted new factual information, the Department instructed parties to refile their case and rebuttal briefs on May 16, 2003. In addition, the Department became aware of a clerical filing error in petitioners' April 25, 2003 submission. The correction of this error on May 19, 2003, which resulted in new factual information submitted with the agreement of the Department, necessitated the opportunity for respondent to rebut this information within 10 days.

The refiling of a number of documents in this review present the Department with limited time in which to evaluate the arguments contained therein and come to a decision by the current deadline of June 9, 2003. These arguments pertain to, among other things, the bona fides of TTPC's U.S. sales, and the selection from a multitude of potential sources of the appropriate surrogate values to be used for the financial ratios in calculating normal value. Therefore, in accordance with section 751(a)(2)(B)(iv) of the Act and 19 CFR 351.214(i)(2), the Department is extending the time limit for the completion of final results for an additional 60 days. The final results will now be due no later than August 8, 2003.

This notice is published pursuant to sections 751(a)(2)(B) and 777(i)(1) of the Act.

Dated: June 6, 2003.
Barbara E. Tillman,
Acting Deputy Assistant Secretary for Import Administration, Group III.

[FR Doc. 03-14978 Filed 6-12-03; 8:45 am]

BILLING CODE 3510-DS-S